ENVIRONMENTAL PROTECTION AGENCY

[FRL-10017-01-OECA ]

Applicability Determination Index Data System Posting: EPA Formal Responses to Inquiries Concerning Compliance With the Clean Air Act Stationary Source Program

AGENCY: Environmental Protection Agency (EPA).

ACTION: Notice of availability.

SUMMARY: This notice announces the availability of applicability determinations, alternative monitoring decisions, and regulatory interpretations made by EPA with regard to the New Source Performance Standards (NSPS); the National Emission Standards for Hazardous Air Pollutants (NESHAP); the Emission Guidelines and Federal Plan Requirements for existing sources; and/or the Stratospheric Ozone Protection Program.

FOR FURTHER INFORMATION CONTACT: An electronic copy of each complete document posted on the Applicability Determination Index (ADI) data system is available on the internet through the Resources and Guidance Documents for Compliance Assistance page of the Clean Air Act Compliance Monitoring Website under “Air” at: https://www.epa.gov/compliance/resources-and-guidance-documents-compliance-assistance. The letters and memoranda on the ADI may be located by author, date, office of issuance, subpart, citation, control number, or by string word searches. For questions about the ADI or this notice, contact Maria Malave, Monitoring, Assistance and Media Programs Division by phone at: (202) 564-7027, or by email at: malave.maria@epa.gov. For technical questions about individual applicability determinations, monitoring decisions, or regulatory interpretations, refer to the contact person identified in each individual document, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. 40 CFR 60.5 and 61.06. The General Provisions in part 60 also apply to Federal and EPA-approved state plans for existing sources in 40 CFR part 62. See 40 CFR 62.02(b)(2). The EPA's written responses to source or facility-specific inquiries on provisions in parts 60, 61 and 62 are commonly referred to as applicability determinations. Although the NESHAP part 63 regulations [which include Maximum Achievable Control Technology (MACT) standards and/or Generally Available Control Technology (GACT) standards] contain no specific regulatory provision providing that sources may request applicability determinations, the EPA also responds to written inquiries regarding applicability for the part 63 regulations. In addition, the General Provisions in part 60 and 63 allow sources to seek permission to use monitoring or recordkeeping that is different from the promulgated requirements. See 40 CFR 60.13(i), 61.14(g), 63.8(b)(1), 63.8(f), and 63.10(f). The EPA's written responses to these inquiries are commonly referred to as alternative monitoring decisions. Furthermore, the EPA responds to written inquiries about the broad range of regulatory requirements in 40 CFR parts 60 through 63 as they pertain to a whole source category. These inquiries may pertain, for example, to the type of sources to which the regulation applies, or to the testing, monitoring, recordkeeping, or reporting requirements contained in the regulation. The EPA's written responses to these inquiries are commonly referred to as regulatory interpretations.

The EPA currently compiles EPA-issued NSPS and NESHAP applicability determinations, alternative monitoring decisions, and regulatory interpretations, and posts them to the ADI on a regular basis. In addition, the ADI contains EPA-issued responses to requests pursuant to the stratospheric ozone regulations contained in 40 CFR part 82. The ADI is a data system accessed via the internet, with over three thousand EPA letters and memoranda pertaining to the applicability, monitoring, recordkeeping, and reporting requirements of the NSPS, NESHAP, emission guidelines and Federal Plans for existing sources, and stratospheric ozone regulations. Users can search for letters and memoranda by author, date, office of issuance, subpart, citation, control number, or by string word searches.

Today's notice comprises a summary of 59 such documents added to the ADI on October 22, 2020. This notice lists the subject and header of each letter and memorandum, as well as a brief abstract of the content. Complete copies of these documents may be obtained from the ADI on the internet through the Resources and Guidance Documents for Compliance Assistance page of the Clean Air Act Compliance Monitoring website under “Air” at: https://www.epa.gov/compliance/resources-and-guidance-documents-compliance-assistance.

Summary of Headers and Abstracts

The following table identifies the database control number for each document posted on October 22, 2020 to the ADI data system; the applicable category; the section(s) and/or subpart(s) of 40 CFR part 60, 61, 62, 63 and 82 (as applicable) addressed in the document; and the title of the document, which provides a brief description of the subject matter.

Also included in this notice, is an abstract of each document identified with its control number. These abstracts are being provided to the public as possible items of interest and are not intended as substitutes for the contents of the original documents. This notice does not change the status of any document with respect to whether it is “of nationwide scope or effect” for purposes of CAA section 307(b)(1). For example, this notice does not convert an applicability determination for a particular source into a nationwide rule. Neither does it purport to make a previously non-binding document binding.

Applicability Determinations, Alternative Monitoring Plans and Regulatory Interpretations Uploaded to ADI on October 22, 2020
Control No. | Categories | Subparts | Title
1900024 | NSPS | OOOOa | Applicability Determination for Mainline Valve at a Compressor Station.
1900025 | NSPS, NESHAP | LLL, KKK, OOOO HH | Applicability Determination for Sweetening Units Installed on a Natural Gas Processing Plant.
1900026 | NSPS | Ja | Alternative Monitoring Plan for Span Gas Concentration for Total Reduced Sulfur Continuous Emissions Monitoring System for Flares at Petroleum Refineries.
1900027 | NSPS | J, Ja | Alternative Monitoring Plan and Performance Test Waiver for Hydrogen Sulfide Monitoring of Tank Degassing Operations Controlled by Portable Fuel Gas Combustion Devices at Petroleum Refineries.
1900028 | NESHAP, NSPS | J, Ja, UUU | Modification of Operating Parameter Limits in Alternative Monitoring Plan for a Wet Gas Scrubber installed on Fluidized Catalytic Cracking Units at a Refinery.
1900030 | NSPS | J | Waiver Request of the Frequency Particulate Matter Testing for Fluidized Catalytic Cracking Unit at a Refinery.
1900031 | NESHAP, NSPS | J, Ja, UUU | Modification of Alternative Monitoring Plan to Allow Parametric Monitoring In lieu of Continuous Opacity Monitoring of a Wet Gas Scrubber Installed on a Fluidized Catalytic Cracking Unit at a Refinery.
1900032 | NSPS | J | Alternative Monitoring Plan for Delayed Coking Unit Installed on Disulfide Oil Oxidation Tower at a Refinery.
1900033 | NESHAP, NSPS | J, UUU | Modification of Alternative Monitoring Plan to Allow Parametric Monitoring In lieu of Continuous Opacity Monitoring of a Wet Gas Scrubber Installed on a Fluidized Catalytic Cracking Unit at a Refinery.
1900034 | NSPS | XXX | Applicability Determination for Expansion of a Landfill.
1900035 | NSPS | J, Ja | Alternative Monitoring Plan for Hydrogen Sulfide Monitoring of Storage Tank, Process Unit Vessel, and Piping Degassing Operations Controlled by Portable Fuel Gas Combustion Devices at Petroleum Refineries.
1900036 | NSPS | Db | Alternative Monitoring Plan to Allow Predictive Emissions Monitoring In lieu of Continuous Emission Monitoring of NOX Emissions from a Boiler at a Packaging Facility.
1900037 | NSPS | Db | Extension Due to Force Majeure Events of Initial Performance Test of NOX Emissions from a Boiler at a Mining Company.
1900038 | NSPS | Ja | Alternative Monitoring Plan for Span Gas Range for NOX Continuous Emissions Monitoring System for Heaters at a Petroleum Refinery.
1900039 | NSPS | UUU | Alternative Monitoring Plan for Wet Scrubbers on Fluidized Bed Dryers at Non-metallic Mineral Processing Facilities.
2000001 | NSPS | OOO | Regulatory Interpretation for Vibratory Feeders at a Limestone Quarry.
2000003 | NSPS | EEEE | Applicability Determination for Rural Institutional Waste Incinerators.
2000004 | NESHAP, NSPS | Db, DDDDD | Alternative Monitoring Plan for Biomass Boiler at Kraft Pulp Mill.
2000005 | NSPS | A, J, Ja | Alternative Monitoring Plan and Performance Testing Waiver for Hydrogen Sulfide Monitoring of Tank Degassing Operations Controlled by Portable Fuel Gas Combustion Devices at Petroleum Refineries.
2000007 | NESHAP, NSPS | Db, DDDDD | Alternative Monitoring Plan for Wood-Residue Fueled Boilers at a Paperboard Mill.
2000013 | NSPS | A | Regulatory Interpretation of the use of Part 60, Appendix F- Quality Assurance Procedures.
FP00008 | Federal Plan | LLL | Modification to Alternative Monitoring Plan for Fluidized Bed Sewage Sludge Incinerator at a Wastewater Treatment Plant.
FP00009 | Federal Plan | LLL | Alternative Monitoring Plan for Fluidized Bed Sewage Sludge Incinerator at a Wastewater Treatment Plant.
FP00010 | Federal Plan | LLL | Alternative Monitoring Plan for Fluidized Bed Sewage Sludge Incinerator at a Wastewater Treatment Plant.
FP00011 | Federal Plan | LLL | Alternative Monitoring Plan for Fluidized Bed Sewage Sludge Incinerator Installed at a Wastewater Treatment Plant.
FP00012 | Federal Plan | LLL | Alternative Monitoring Plan for Multiple Hearth Sewage Sludge Incinerators Installed at a Wastewater Treatment Plant.
FP00013 | Federal Plan | LLL | Alternative Monitoring Plan for Multiple Hearth Sewage Sludge Incinerator Installed at a Wastewater Treatment Plant.
M190004 | NESHAP, NSPS | F, LLL | Alternative Monitoring Plan for Parametrically Monitoring Sulfur Dioxide Emissions at a Portland Cement Plant.
M190005 | NESHAP | S | Modification of Alternative Monitoring Plan for Steam Stripper Installed on a Kraft Pulp Mill.
M190006 | NESHAP | DDDDD | Alternative Monitoring Plan for Combination Boilers at a Packaging Manufacturing Facility.
M190007 | NESHAP | MM | Alternative Monitoring Plan for Dynamic Scrubbers Installed on Smelt Dissolving Tanks at a Kraft Pulp Mill.
M190008 | NESHAP | MM | Alternative Monitoring Plan for Dynamic Scrubbers Installed on Smelt Dissolving Tanks at a Kraft Pulp Mill.
M190009 | NESHAP | MM | Alternative Monitoring Plan for Dynamic Scrubbers Installed on Smelt Dissolving Tanks at a Kraft Pulp Mill.
M190010 | NESHAP | MM | Alternative Monitoring Plan for Dynamic Scrubbers Installed on Smelt Dissolving Tanks at a Kraft Pulp Mill.
M190011 | NESHAP | MM | Alternative Monitoring Plan for Dynamic Scrubbers Installed on Smelt Dissolving Tanks at a Kraft Pulp Mill.
M190012 | NESHAP | MM | Alternative Monitoring Plan for Dynamic Scrubbers Installed on Smelt Dissolving Tanks at a Kraft Pulp Mill.
M190013 | NESHAP | MM | Alternative Monitoring Plan for Dynamic Scrubbers Installed on Smelt Dissolving Tanks at Kraft Pulp Mill.
M190014 | NESHAP | GGG | Alternative Monitoring Plan for Verifying Flow to Control System Installed on Batch-Operated Pharmaceuticals Manufacturing Facility.
M190015 | NESHAP, NSPS | BB, MM | Alternative Monitoring Plan for Dynamic Scrubber Installed on Smelt Dissolving Tanks at Kraft Pulp Mill.
M190016 | NESHAP, NSPS | BB, MM | Alternative Monitoring Plan for Dynamic Scrubbers Installed on Smelt Dissolving Tanks at Kraft Pulp Mill.
M190017 | NESHAP | CC | Alternative Monitoring Plan for a Cascading Flare System Installed at a Petroleum Refinery.
M190018 | NESHAP | JJJJJJ | Performance Test Waiver for Carbon Monoxide for Boilers.
M190019 | NESHAP | FFFF, HHHHH | Applicability Determination for Separation Activity at a Coatings Manufacturing Facility.
M190020 | NESHAP | EEE | Approval of Minor Test Method Modifications for Hazardous Waste Incinerators.
M190021 | NESHAP | RRR | Alternative Monitoring Plan for Intermittent Lime Addition to Baghouse Installed on Aluminum Melting Furnaces at a Secondary Aluminum Production Facility.
M200001 | NESHAP | CCC | Alternative Monitoring Plan for Wet Scrubber Installed on a Steel Pickle Line at a Steel Pickling Facility.
M200002 | NESHAP, NSPS | BB, BBa, MM | Alternative Monitoring Plan for Electrostatic Precipitator and Wet Scrubber Installed on a Lime Kiln at a Kraft Pulp Mill.
M200003 | NESHAP | G, S | Alternative Monitoring Plan for Equipment that is Unsafe or Difficult to Monitor at a Pulp and Paper Mill.
M200004 | NESHAP | UUUUU | Applicability Determination for Electric Utility Steam Generating Units.
M200005 | NESHAP | VVVVVV, CCCCCCC | Applicability Determination for a Lithium Ion Battery Manufacturing Facility.
M200006 | NESHAP | DDDDD | Alternative Monitoring Plan for Chlorine and Mercury Monitoring for Combination Boiler Installed at a Pulp and Paper Mill.
M200007 | NESHAP | RRR | Applicability Determination for Thermal Chip Dryer Installed at a Secondary Aluminum Production Facility.
M200008 | NESHAP | MM | Alternative Monitoring Plan for Dynamic Scrubbers Installed on Smelt Dissolving Tanks at a Kraft Pulp Mill.
M200009 | NESHAP | MM | Alternative Monitoring Plan for Dynamic Scrubbers Installed on Smelt Dissolving Tanks at a Kraft Pulp Mill.
M200015 | MACT | CC | Regulatory Interpretation of Petroleum Refinery Regulations for Flaring Events.
Z190001 | NESHAP | ZZZZ | Alternative Monitoring Plan for Stationary Reciprocating Internal Combustion Engines Installed at Natural Gas Compressor Stations.
Z200002 | NESHAP | MM | Alternative Monitoring Plan for Dynamic Scrubbers Installed on Smelt Dissolving Tanks at a Kraft Pulp Mill.
Z200003 | NESHAP | LLLLL | Alternative Monitoring Plan for Group 2 Storage Tanks at an Asphalt Roofing Manufacturing Facility.
Z200004 | NESHAP | VVVVVV, BBBBBBB, CCCCCCC | Applicability Determination for Frit Manufacturing Facility.
Z200005 | NESHAP | ZZZZ | Alternative Monitoring Plan for Reciprocating Internal Combustion Engines at a Natural Gas Plant.

Abstracts

Abstract for [1900024]

Q: Does EPA determine that Mainline Valve 29 (MLV 29) installed at the Southern Natural Gas Company compressor station in Thomaston, Georgia (TCS) is part of the affected facility subject to the fugitive emission monitoring requirements in NSPS subpart OOOOa?

A: Yes. Based on the information provided, EPA determines that when the modification to TCS occurred in March 2017, MLV 29 became part of the affected facility subject to the fugitive emissions monitoring requirements of subpart OOOOa. According to 40 CFR 60.5397a, ”the collection of fugitive emissions components at a compressor station, as defined in § 60.5430a, is an affected facility,” and MLV 29 meets the definition of “fugitive emissions components” because it is a component located within the fence line of a compressor station and potentially emits fugitive emissions of methane and volatile organic compounds.

Abstract for [1900025]

Q: Does EPA determine that the sweetening units and sweetening units followed by a sulfur recovery unit (hereinafter referred to collectively as “sweetening units”) at the Lost Cabin Gas Plant in Lysite, Wyoming are affected facilities under NSPS subpart LLL?

A: Yes. Based on the information provided and our analysis of subpart LLL, EPA determines that the sweetening units are affected facilities under NSPS subpart LLL because subpart LLL applies to sweetening units that “process natural gas,” and although subpart LLL does not define “process natural gas,” the preambles to the proposed and final subpart LLL rulemakings (49 FR 2656, January 20, 1984 and 50 FR 40158, October 1, 1985) clarify that gas processing in subpart LLL refers to sweetening and sulfur recovery.

Abstract for [1900026]

Q: Does EPA approve alternate span gas concentration values for hydrogen sulfide (H2S) on the total reduced sulfur (TRS) continuous emissions monitoring system (CEMS) for the Fluor and Cumene flares at the Citgo Refining and Chemicals Company (CITGO) Corpus Christi East petroleum refinery and the West Plant Process flare at the CITGO Corpus Christi West Plant petroleum refinery in Corpus Christi, Texas covered under NSPS subpart Ja?

A: Yes. Based on the process data and analyzer information submitted by CITGO, EPA conditionally approves the request to reduce the concentration ranges of the calibration gas to specified ranges and validation standards on the TRS CEMS for the three flares. As conditions of this approval, CITGO must meet all other requirements of the monitoring procedures of NSPS Subpart Ja for H2S and TRS, and must also conduct linearity analyses on each Extrel MAX300-IG™ mass spectrometer once every three years to determine each detector's linearity across the entire range of expected sulfur concentrations. A report of each completed linearity analysis shall be submitted to EPA Region 6 and the Texas Commission on Environmental Quality and maintained in each facility's on-site records.

Abstract for [1900027]

Q: Does EPA approve an alternative monitoring plan (AMP) and performance test waiver request for ProAct Services Corporation (ProAct) to conduct monitoring of hydrogen sulfide (H2S) emissions in lieu of installing a continuous emission monitoring system, when performing degassing for tanks, vessels, and pipes controlled by portable temporary thermal oxidizers and internal combustion engines at various refineries located in EPA Region 6 that are subject to NSPS subparts J and Ja?

A: Yes. Based on the description of the process, the vent gas streams, the design of the vent gas controls, and the proposed H2S monitoring and data collection methods furnished by ProAct Services Corporation, EPA conditionally approves the AMP. In addition, based on ProAct's proposed alternate testing protocols used during each degassing event, EPA waives performance testing pursuant to 40 CFR 60.8(b)(4). The approved AMP and performance test waiver are only for refineries located in EPA Region 6. EPA includes proposed operating parameter limits and data that the refineries must furnish as part of the conditional approval.

Abstract for [1900028]

Q: Does EPA approve a modification of a previously approved alternative monitoring plan (AMP) for Phillips 66 Company to revise the parametric monitoring limits for the wet gas scrubbers (WGS) installed on Nos. 4 and 5 fluidized catalytic cracking units (FCCU) at the Ponca City Refinery in Ponca City, Oklahoma covered by NSPS subpart J and NESHAP subpart UUU?

A: Yes. Based upon the design of the WGS units and the process specific supplemental information provided by Phillips 66 Company, EPA conditionally approves the AMP modification for the two FCCU WGS at the Ponca City Refinery. EPA reviewed the recent performance test results provided by Phillips 66 Company and found the data supportive for modifying the values of the established final operating parameter limits (OPLs). The OPLs approved for demonstrating compliance with the AMP included minimum liquid-to-gas ratio, minimum water pressure to quench/spray tower, minimum slurry liquid circulation pump discharge pressure, and minimum pressure drop across filter modules/cyclolabs.

Abstract for [1900030]

Q: Does EPA approve ExxonMobil Refining and Supply Company's (ExxonMobil's) waiver of the frequency of particulate matter (PM) emission rate testing for one fluidized catalytic cracking unit (FCCU) at the Beaumont Refinery, Beaumont, Texas, which is subject to NSPS subpart J and annual testing PM testing under consent decree, Civil Action No. 05-C-5809?

A: Yes. EPA conditionally approves ExxonMobil 's request to reduce the frequency of PM testing for the one FCCU at the Beaumont Refinery from annually to once every five years, with the limitation that ExxonMobil shall resume annual PM testing for the FCCU any time the NSPS subpart J emission limit of 1.0 pound of PM per 1000 pounds of coke burned (on a 3-hour average basis) is exceeded.

Abstract for [1900031]

Q: Does EPA approve a modification of a previously issued alternative monitoring plan (AMP) for the wet gas scrubber (WGS) on one fluidized catalytic cracking unit (FCCU) at the Marathon El Paso Refinery in El Paso, Texas, subject to NSPS subparts J and Ja and NESHAP subpart UUU, for parametric monitoring of opacity at the WGS in lieu of a continuous opacity monitoring system (COMS), due to changes in operating conditions at the units when moisture levels are high in the stacks?

A: Yes. Based upon the design of the WGS unit and the process specific supplemental information provided, EPA approves the AMP modification to use parametric monitoring in lieu of COMS for the WGS on one FCCU at the Marathon El Paso Refinery. EPA reviewed the recent performance test results and found the data supportive for modifying the final operating parameter limits (OPLs). The OPLs that EPA approves for demonstrating compliance with the AMP included minimum Liquid-to-Gas Ratio and the minimum pressure drop across the WGS.

Abstract for [1900032]

Q: Does EPA approve an alternative monitoring plan (AMP) if delayed coking unit (DCU) 843 is rerouted from Flare #23 to the Merichem Flare, to exempt Valero Port Arthur Refinery (Valero) in Port Arthur, Texas subject to NSPS subpart J from monitoring hydrogen sulfide (H2S) in the DCU 843 overhead vapor stream from the disulfide oxidation tower T-6750?

A: Yes. Based on the description of the vent gas stream, the process parameters to be monitored, the design of the vent gas controls, and H2S monitoring data, EPA conditionally approves the AMP. The fuel gas stream from the disulfide oxidation tower T-6750 is inherently low in sulfur as demonstrated by H2S monitoring data previously furnished to EPA for a previously issued AMP exempting H2S monitoring for oxidation tower T-6750 when DCU 843 was previously routed to Flare #23. Valero must continue to meet all other applicable NSPS requirements, and the DCU 843 overhead vapor stream from disulfide oil oxidation tower T-6750 must be combusted in the Merichem Flare.

Abstract for [1900033]

Q: Does EPA approve a modification of a previously issued alternative monitoring plan (AMP) for the wet gas scrubber (WGS) on one fluidized catalytic cracking unit (FCCU) at the Shell Chemical, LP Deer Park Refinery in Deer Park, Texas (Shell Chemical, LP), subject to NSPS subpart J and NESHAP subpart UUU, for parametric monitoring of opacity at the WGS in lieu of a continuous opacity monitoring system (COMS)?

A: Yes. Based upon the design of the WGS unit and the process specific data and supplemental information provided by Shell Chemical, LP, EPA approves an AMP modification to use parametric monitoring in lieu of COMS for the WGS on one FCCU at the Deer Park Refinery. EPA reviewed the recent performance test results and found the data supportive for modifying the final operating parameter limits (OPLs). The OPLs that EPA approves for demonstrating compliance with the AMP included minimum Liquid-to-Gas Ratio, minimum liquid side pressure at the filter module nozzles, and minimum pressure drop at the quench nozzle.

Abstract for [1900034]

Q: Does EPA determine that an expansion to the Advanced Disposal Services Glacier Ridge Landfill, LLC (GRL) in Horicon, Wisconsin meets the applicability criteria of NSPS subpart XXX, if the expansion was approved under a solid waste permit and construction had commenced prior to July 17, 2014?

A: No. EPA determines that GRL landfill expansion has not triggered subpart XXX applicability because a modification as defined in under 40 CFR 60.761 has not occurred. GRL's current design capacity of 20,269,000 cubic yards was permitted by the Wisconsin Department of Natural Resources prior to July 17, 2014 and construction on that permitted expansion was commenced prior to July 17, 2014, the effective date of NSPS subpart XXX.

Abstract for [1900035]

Q: Does EPA approve the alternative monitoring plan (AMP) request from PSC Industrial Outsourcing, LP (HydroChemPSC) to conduct monitoring of hydrogen sulfide emissions, in lieu of installing a continuous emission monitoring system, when performing degassing for storage tanks, process unit vessels, and piping controlled by temporary portable fuel gas combustion devices (FGCDs) at petroleum refineries located in EPA Region 5 that are subject to NSPS subparts J and Ja?

A: Yes. Since the storage tank, process unit vessel and piping degassing operations are infrequent and temporary, EPA conditionally approves an AMP when HydroChemPSC uses a portable FGCD to control emissions from these processes. EPA included in the response letter specifications regarding sampling procedures, frequency of sampling, methods to determine compliance, recordkeeping, and data that the refineries must furnish as part of the conditional approval.

Abstract for [1900036]

Q: Does EPA approve an alternative monitoring plan (AMP) request from Packaging Corporation of America (PCA) to use a predictive emission monitoring system (PEMS) in lieu of a NOx continuous emission monitoring system (CEMS) on Boiler B24 at the PCA facility in Tomahawk, Wisconsin, subject to NSPS subpart Db?

A: No. Based on the information provided, EPA denies PCA's AMP request for use of a PEMs in lieu of a Nox CEMS because the heat input capacity of Boiler B24 (352.9 MMBtu/hr) significantly exceeds the 250 MMBtu/hr capacity limit in 40 CFR 60.49b(c) for allowing use of PEMS and Boiler B24. Additionally, Boiler B24 may burn types of solid fuels (e.g., biomass, tire-derived fuel, paper recycling residuals, and paper pellets) not identified in 40 CFR 60.48b(g)(2). Finally, Boiler B24 was constructed in 1977 and has been in operation since that time.

Abstract for [1900037]

Q: Does EPA approve an extension of the deadline from April 2, 2019 to July 31, 2019 for the initial performance test for nitrogen oxides (NOx) emissions for Boiler No. 4 at the Tilden Mining Company, LLC, (Tilden) facility in Ishpeming, Michigan, covered by NSPS subpart Db, due to force majeure events including a series of equipment failures that delayed achieving the maximum production rate?

A: No. Based on the information provided, EPA denies the request for an extension of the performance test deadline. Based on the information provided, Tilden's Boiler No. 4 achieved maximum production rate on February 1, 2019, providing the 60-day testing period specified in 40 CFR 60.8(a). Because Tilden had 60 days to complete testing prior to April 2, 2019, the equipment failures do not qualify as force majeure events, which are defined by 40 CFR 60.2 as “prevent[ing] the owner or operator from complying with the regulatory requirement to conduct performance tests within the specified timeframe.”

Abstract for [1900038]

Q: Does EPA approve an alternate span gas concentration range equal to 1 to 3 times the NSPS subpart Ja limit for the nitrogen oxides (NOx) continuous emission monitoring system (CEMS) for heaters 25H-3, 25H-4, 37H-3/4/5, and 30H-401 at the Flint Hills Resources Pine Bend Refinery (FHR) in Saint Paul, Minnesota covered under NSPS subpart Ja?

A: Yes. Based on the process data and analyzer information submitted by FHR, EPA conditionally approves the request to change the span gas range to 1 to 3 times the NSPS Subpart Ja limit for the NOx CEMS for the four heaters because a lower span should provide more accurate measurement of NOx emissions from these heaters during typical operations. The conditions for approval are specified in the EPA response letter.

Abstract for [1900039]

Q: Does EPA approve Covia Holdings Corporation's (Covia's) alternative monitoring plan (AMP) request to establish pressure drop and liquid flow rate parametric limits for monitoring particulate matter (PM) emissions from wet scrubbers on fluidized bed dryers at its two non-metallic mineral processing facilities located in Ottawa, Minnesota and Kasota, Minnesota, subject to NSPS subpart UUU, by using for each scrubber, the results of multiple performance tests conducted 2012 through the most recent performance test, as opposed to using only the most recent performance test?

A: Yes. Based on the performance test and process data submitted by Covia, as well as Covia's statement that there have been no modifications to any of the processes or control devices since the earliest test, EPA conditionally approves the request. The conditions for the approval are specified in the EPA response letter and exclude use of any test older than 12 years or conducted prior to modifications to the dryer or scrubber, and any test that resulted in PM emissions above ten percent of the emissions limit that would lower the minimum pressure drop or expand the liquid flow rate range. Additionally, all future test results for the wet scrubbers must be shared with EPA Region 5 and the Minnesota Pollution Control Agency.

Abstract for [2000001]

Q: Does EPA determine that two vibratory feeders at the Blue Waters Industries' limestone quarry in Lebanon, Tennessee meet the definition of affected facilities under NSPS subpart OOO?

A: No. Based upon the design and operation of the vibratory feeders, EPA determines that the feeders do not fit the definitions of any of the facilities subject to subpart OOO. Although the feeders are not affected facilities under subpart OOO, the transfer points from the feeders onto two downstream conveyor belts would be subject to an opacity limit in Table 3 to subpart OOO for fugitive emissions sources, if the conveyors were constructed, modified, or reconstructed after August 13, 1983.

Abstract for [2000003]

Q: Does EPA determine that the institutional waste incinerators operated at four United States Air Force (USAF) Long Range Radar Sites (LRRS) located in Point Barrow, Barter Island, Cold Bay, and Oliktok, Alaska qualify under 40 CFR 60.2887(h) to be excluded from NSPS subpart EEEE?

A: No. EPA determines that the USAF LRRS institutional waste incinerators do not qualify for the “rural institutional waste incinerators” exclusion under 40 CFR 60.2887(h) under subpart EEEE because the application for exclusion was not submitted prior to the initial startup of the incinerators and information was not provided demonstrating that alternative disposal options are unavailable or economically infeasible.

Abstract for [2000004]

Q: Does EPA approve an alternative monitoring plan (AMP) to continuously monitor pressure drop and liquid flow rate of the venturi scrubber installed on the No. 1 bark boiler at the Foley Cellulose LLC Kraft pulp mill (Foley Mill) in Perry, Florida subject to NSPS Subpart Db, in lieu of continuously monitoring opacity or particulate matter (PM)?

A: Yes. Based on the information provided, EPA approves the AMP. EPA agrees with the technical concerns raised by Foley Mill regarding using a PM continuous emission monitoring system or continuous opacity monitoring system on biomass-fired boilers, due to water droplets in the flue downstream of the scrubbers. The approved AMP is equivalent to the PM monitoring requirements for a 300 MMBtu/hour biomass boiler subject to NESHAP subpart DDDDD, and the requirements of the AMP are detailed in the EPA response letter.

Abstract for [2000005]

Q: Does EPA approve an Alternative Monitoring Plan (AMP) and performance test waiver request for USA DeBusk, LLC (Debusk) to conduct monitoring of hydrogen sulfide (H2S) emissions, in lieu of installing a continuous emission monitoring system, when performing degassing for tanks, vessels, and piping controlled by temporary portable fuel gas combustion devices (FGCDs) at petroleum refineries located in Region 4 that are subject to NSPS subparts J and Ja?

A: Yes. Based on the description of the process, the vent gas streams, the design of the vent gas controls, and the proposed H2S monitoring and data collection methods furnished by Debusk, EPA conditionally approves the AMP for H2S emissions from degassing and cleaning of tanks, vessels, and piping. In addition, based on Debusk's proposed alternate testing protocols used during each degassing event, EPA waives performance testing pursuant to 40 CFR 60.8(b)(4). EPA includes in the response letter conditions regarding sampling procedures, re-sampling requirements, methods for determining compliance, FGCD operation, recordkeeping, and reporting.

Abstract for [2000007]

Q: Does EPA approve an alternative monitoring plan (AMP) to continuously monitor scrubber operating parameter limits (OPLs) to demonstrate compliance with the opacity limit for the No. 2 and No. 3 wood-residue fueled boilers equipped, respectively, with a wet electrostatic precipitator (WESP) and a venturi scrubber, at the WestRock Coated Board, LLC Mahrt Mill in Phenix City, Alabama subject to NSPS subpart Db?

A: Yes. EPA approves the AMP as proposed to continuously monitor the operating load or steam generation for both boilers, the total secondary electric power input of the WESP for the No. 2 boiler, and the pressure drop and liquid flow rate of the scrubber for the No. 3 boiler. EPA agrees with the technical concerns raised by Mahrt Mill regarding using a PM continuous emission monitoring system or continuous opacity monitoring system on biomass-fired boilers, due to water droplets in the flue downstream of the scrubbers. The approved AMP is equivalent to the PM monitoring requirements for biomass boilers of equivalent size subject to NESHAP subpart DDDDD, and the requirements of the AMP are detailed in the EPA response letter.

Abstract for [2000013]

Q: Does EPA agreed with the Oklahoma Department of Environmental Quality (ODEQ) that all affected sources subject to any NSPS are required to comply with the requirements specified in appendix F to 40 CFR part 60, which is used for continuous emission monitoring systems (CEMS) in determining compliance with emissions limits as specified in the NSPS General Provisions?

A: No. Each subpart should be reviewed for applicable references to appendix F and portions of the General Provisions (GP) to 40 CFR part 60 for affected facilities specified in the subpart. Due consideration should be given to the applicability sections provided within each subpart and appendix F (Quality Assurance Procedures).

Abstract for [FP00008]

Q: Does EPA approve a modification of a previously approved alternative monitoring plan (AMP) for establishing operating limits (OPLs) for the sewage sludge incinerator (SSI) using a VenturiPak™ wet scrubber with mercury modules at the City of Anacortes Wastewater Treatment Plant (Anacortes) in Anacortes, Washington subject to 40 CFR part 62, subpart LLL?

A: Yes. Based on the information provided, EPA conditionally approves the AMP modification. EPA agrees with establishing the sand bed temperature of the SSI as the operating parameter for monitoring dioxins/furans in lieu of the exhaust gas temperature, and Anacortes must limit the maximum dry sludge feed rate to no greater than 110 percent of the average dry sludge feed rate achieved during the most recent performance test demonstrating compliance with the dioxins/furans emission limits. EPA agrees with replacing the 12-hour block averaging time for OPLs specified in table 4 to subpart LLL with an “operating day block average” averaging time because Anacortes typically operates only 6 to 8 hours per day. EPA also agrees that the reduced performance testing frequency provided in 40 CFR 62.16000(a)(3) should apply to Anacortes. The approved operating parameters and conditions for establishing OPLs are specified in the EPA approval letter.

Abstract for [FP00009]

Q1: Does EPA approve an alternative monitoring plan (AMP) for establishing and monitoring operating parameters to demonstrate compliance with the mercury (Hg) emission limit applicable to the fluidized bed sewage sludge incinerator (SSI) equipped with a control equipment not specified in 40 CFR 62.15965 at the Edmonds Wastewater Treatment Plant (Edmonds) in Edmonds, Washington subject to 40 CFR part 62 subpart LLL?

A1: Yes. Based on the information provided, EPA approves the AMP for demonstrating compliance with the Hg emission limit by monitoring and recording continuously the pressure drop across the Hg control system (i.e., W.L. Gore and Associates, Inc./EnviroCare International Sorbent Polymer Composite technology Hg control system in combination with a mist eliminator) and the inlet temperature to the system, and by monitoring on a quarterly basis the Hg concentrations in the flue gas at the inlet and outlet of the system.

Q2: Does EPA approve an AMP to use a wet scrubber system and to practice good combustion practices for demonstrating compliance with the dioxins/furans emission limit applicable to Edmonds' SSI?

A2: No. Based on the information provided, EPA does not approve the AMP because it does not propose to monitor any operating parameters or establish operating parameter limits (OPLs) for Edmunds' SSI to demonstrate compliance with the dioxins/furans emissions limit. Edmonds should submit a revised petition in accordance with 40 CFR 62.15965(b)(2)(i) through (v) that addresses dioxins/furans-specific operating parameters and OPLs associated with good combustion practices.

Q3: Does EPA approve Edmonds' AMP for its VenturiPakTM scrubber system to demonstrate compliance with the three OPLs for scrubbers in table 4 to subpart LLL, by monitoring the OPLs only at the drain that receives the total scrubber water discharge from the scrubber system?

A3: No. EPA does not approve the AMP because Edmunds did not provide the information specified by 40 CFR 62.15995(e)(1) through (6). Edmunds' scrubber system generally consists of five different scrubbers operated in series, and the Federal Plan requires monitoring pressure drop, liquid flow rate, and pH of each wet scrubber in a scrubber system. Edmonds may revise and resubmit their AMP.

Q4: Does EPA approve Edmonds' AMP changing the location for monitoring the minimum combustion chamber operating temperature of the SSI from the exhaust gas to the fluidized sand bed?

A4: Yes. Based on the information provided, EPA approves the AMP since the alternative location will enable accurate and representative measurements.

Q5: Does EPA approve Edmonds' AMP specifying the facility's ash handling system monitoring procedures?

A5: No. Based on the information provided, EPA does not approve the AMP because Edmonds' AMP does not include operating procedures to address the complete ash conveying system (including conveyor transfer points) or sufficient information for EPA to evaluate whether daily inspections of the ash handling system and observation of the loadout activities will be adequate to meet the requirements of 40 CFR 62.15955 and 62.15995 on an ongoing basis. Edmonds may revise and resubmit their AMP.

Abstract for [FP00010]

Q1: Does EPA approve an alternative monitoring plan (AMP) to demonstrate compliance with the mercury (Hg) emission limit applicable to the fluidized bed sewage sludge incinerator (SSI) equipped with a W.L. Gore and Associates, Inc./EnviroCare International Sorbent Polymer Composite technology Hg control system at the Lynnwood Wastewater Treatment Plant (Lynnwood) in Lynnwood, Washington subject to 40 CFR part 62 subpart LLL?

A1: Yes. Based on the information provided, EPA approves the AMP for demonstrating compliance with the Hg emission limit by monitoring and recording continuously the pressure drop across the Hg control system and the inlet temperature to the system, and by monitoring on a quarterly basis the Hg concentrations in the flue gas at the inlet and outlet of the system.

Q2: Does EPA approve an AMP to use a wet scrubber system and to practice good combustion practices for demonstrating compliance with the dioxins/furans emission limit applicable to Lynnwood's SSI?

A2: No. Based on the information provided, EPA does not approve the AMP because it does not propose to monitor any operating parameters or establish operating parameter limits (OPLs) for Lynnwood's SSI to demonstrate compliance with the dioxins/furans emissions limit. Lynnwood should submit a revised petition in accordance with 40 CFR 62.15965(b)(2)(i) through (v) that addresses dioxins/furans-specific operating parameters and OPLs associated with good combustion practices.

Q3: Does EPA approve Lynnwood's AMP for its wet scrubber system to demonstrate compliance with the OPLs for scrubbers in table 4 to subpart LLL by monitoring the pressure drop across the venturi scrubber, the total scrubber water flow rates not including the mist eliminator, and the pH of the scrubber discharge from the impingement tray scrubber and associated tray irrigation water flow?

A3: No. EPA does not approve the AMP because Lynnwood did not provide the information specified by 40 CFR 62.15995(e)(1) through (6). Lynnwood's scrubber system generally consists of five different scrubbers operated in series, and the Federal Plan requires monitoring pressure drop, liquid flow rate, and pH of each wet scrubber in a scrubber system. Lynnwood may revise and resubmit their AMP.

Q4: Does EPA approve Lynnwood's AMP for monitoring the minimum combustion chamber operating temperature of the SSI using the average reading of three thermocouples that measure the combustion temperature within the fluidized sand bed of the SSI?

A4: Yes. Based on the information provided, EPA approves the AMP for the SSI because it meets the 40 CFR 62.15960 requirements.

Q5: Does EPA approve Lynnwood's AMP specifying the facility's ash handling system monitoring procedures?

A5: No. Based on the information provided, EPA does not approve the AMP because Lynnwood's AMP does not include operating procedures to address the complete ash conveying system (including conveyor transfer points) or sufficient information for EPA to evaluate whether daily observations of the filter cake and observation of the loadout activities will be adequate to meet the requirements of 40 CFR 62.15955 and 62.15995 on an ongoing basis. Lynnwood may revise and resubmit their AMP.

Abstract for [FP00011]

Q1: Does EPA approve an alternative monitoring plan (AMP) to demonstrate compliance with the mercury (Hg) emission limit applicable to the fluidized bed sewage sludge incinerator (SSI) equipped with a W.L. Gore and Associates, Inc./EnviroCare International Sorbent Polymer Composite technology Hg control system in combination with a mist eliminator at the Vancouver Wastewater Treatment Plant (Vancouver) in Vancouver, Washington subject to 40 CFR part 62 subpart LLL?

A1: No. Based on the information provided, EPA does not approve Vancouver's AMP to monitor the Hg concentrations collected on the sorption media modules within the Hg control system because Vancouver was unable to establish an operating parameter limit (OPL) and averaging time for this operating parameter. EPA approves monitoring and recording continuously the inlet temperature to the Hg control system and monitoring on a quarterly basis the Hg concentrations in the flue gas at the inlet and outlet of the system. Vancouver should submit a revised petition proposing Hg-specific OPLs that meet the requirements of 40 CFR 62.15965(b)(2)(iii), and Vancouver should consider whether the pressure drop across the Hg control system should be included as an OPL.

Q2: Does EPA approve an AMP to use a wet scrubber system and to practice good combustion practices for demonstrating compliance with the dioxins/furans emission limit applicable to Vancouver's SSI?

A2: No. Based on the information provided, EPA does not approve the AMP because it does not propose to monitor any operating parameters or establish OPLs for Vancouver's SSI to demonstrate compliance with the dioxins/furans emissions limit. Vancouver should submit a revised petition in accordance with 40 CFR 62.15965(b)(2)(i) through (v) to propose dioxins/furans OPLs associated with good combustion practices.

Q3: Does EPA approve Vancouver's AMP for its quench/venturi wet scrubber system to demonstrate compliance with the OPLs for scrubbers in table 4 to subpart LLL by monitoring the pressure drop across the tray scrubber, the total scrubber water flow rate from the quench, venturi, and tray scrubbers, and the pH of the tray scrubber effluent?

A3: No. EPA does not approve the AMP because Vancouver did not provide the information specified by 40 CFR 62.15995(e)(1) through (6). Vancouver's scrubber system consists of multiple scrubbers operated in series, and subpart LLL requires monitoring pressure drop, liquid flow rate, and pH of each wet scrubber in a scrubber system. Vancouver may revise and resubmit their AMP.

Q4: Does EPA approve Vancouver's AMP for monitoring the minimum combustion chamber operating temperature of the SSI using the average reading of three thermocouples that measure the combustion temperature within the fluidized sand bed of the SSI?

A4: Yes. Based on the information provided, EPA approves the AMP for the SSI because it meets the 40 CFR 62.15960 requirements.

Q5: Does EPA approve Vancouver's AMP for the facility's ash handling system monitoring procedures?

A5: No. Based on the information provided, EPA does not approve the AMP because it does not include operating procedures to address the complete ash conveying system or sufficient information for EPA to evaluate whether daily observations of the ash filter cake to the roll-off bins and the weekly sampling of the moisture content of the ash filter cake will be adequate to meet the requirements of 40 CFR 62.15955 and 62.15995 on an ongoing basis. Vancouver may revise and resubmit their AMP.

Abstract for [FP00012]

Q1: Does EPA approve an alternative monitoring plan (AMP) to demonstrate compliance with the mercury (Hg) emission limit applicable to two multiple hearth sewage sludge incinerators (SSIs) equipped with a wet venturi scrubber and wet electrostatic precipitator (WESP) at the Bellingham Wastewater Treatment Plant (Bellingham) in Bellingham, Washington subject to 40 CFR part 62 subpart LLL?

A1: No. Based on the information provided, EPA does not approve the AMP because it proposes no monitoring of Hg-specific operating parameter limits (OPLs) and provides no information on the influence of the wet scrubber and WESP on Hg emissions. Bellingham should submit a revised petition proposing Hg-specific OPLs that adequately address 40 CFR 62.15965(b)(2)(i) through (v).

Q2: Does EPA approve an AMP to use an afterburner (thermal oxidizer), wet scrubber, WESP, and good combustion practices to comply with the dioxins/furans emission limit applicable to Bellingham's SSIs?

A2: No. Based on the information provided, EPA does not approve the AMP because it does not propose to monitor any OPLs to demonstrate compliance with the dioxins/furans emission limit, and it does not provide any information on the afterburner's influence on dioxins/furans emissions. Bellingham should submit a revised petition to adequately address 40 CFR 62.15965(b)(2)(i) through (v), including proposing dioxins/furans-specific OPLs associated with good combustion practices.

Q3: Does EPA approve Bellingham's AMP for its WESPs to demonstrate compliance with the OPLs for scrubbers in table 4 to subpart LLL by monitoring the secondary voltage, amperage, and hourly inlet water flow to the WESP?

A3: No. EPA does not approve monitoring hourly inlet water flow to the WESP in lieu of hourly outlet water flow from the WESP because Bellingham did not provide the information specified by 40 CFR 62.15995(e)(1) through (6). EPA approves monitoring of the secondary voltage and amperage of the WESPs.

Q4: Does EPA approve Bellingham's AMP for its wet scrubber systems, to demonstrate compliance with the OPLs for scrubbers in table 4 to subpart LLL by monitoring the combined pressure drop across the venturi and tray wet scrubbers, the total scrubber water flow rate to both venturi and tray wet scrubbers, and the pH of the tray scrubber influent?

A4: No. EPA does not approve the AMP because Bellingham did not provide the information specified by 40 CFR 62.15995(e)(1) through (6). Bellingham's scrubber systems consist of multiple scrubbers operated in series, and subpart LLL requires parameter monitoring of each wet scrubber in a scrubber system.

Q5: Does EPA approve Bellingham's AMP for monitoring the minimum temperature of the afterburner combustion chamber of the SSIs using a temperature sensor located near the exit from the afterburner chamber upstream of the entry of the venturi scrubber?

A5: No. Based on the information provided, EPA does not approve the AMP because EPA needs more information regarding the design and performance specifications of the afterburner and supplemental burner to determine whether the temperature sensor provides a representative temperature of the afterburner combustion chamber.

Q6: Does EPA approve Bellingham's AMP for the facility's ash handling system monitoring procedures?

A6: No. Based on the information provided, EPA does not approve the AMP. The AMP must be revised to include the upstream portion of the ash handling system during Method 22 testing and to explain how Bellingham will properly conduct the Method 22 test during ash filling. Further, the AMP must provide information for EPA to evaluate if the ash handling units used to capture and control fugitive ash emissions, equipment inspections, visible fugitive ash emission checks, and monitoring of the fabric filter pressure drop and water usage in the ash handling system will meet on an ongoing basis the requirements of 40 CFR 62.15955 and 62.15995.

Abstract for [FP00013]

Q1: Does EPA approve an alternative monitoring plan (AMP) to demonstrate compliance with the operating parameter limits (OPLs) for the VenturiPakTM scrubber system for the multiple hearth sewage sludge incinerator (SSI) at the Anchorage Water & Wastewater Utility (Anchorage) in Anchorage, Washington subject to 40 CFR part 62 subpart LLL?

A1: No. EPA does not approve the AMP to monitor the combined pressure drop across the impingement tray scrubber, venturi scrubber, separator tray scrubber, and mist eliminator; the combined liquid flow rate of all the scrubbers, and the combined pH of all scrubber liquid effluent. Anchorage's scrubber systems consist of multiple scrubbers operated in series, and subpart LLL requires monitoring pressure drop, liquid flow rate, and pH of each wet scrubber in a scrubber system; however, the AMP did not provide the information specified by 40 CFR 62.15995(e)(1) through (6). Anchorage may revise and resubmit their AMP.

Q2: Does EPA approve Anchorage's AMP for monitoring the minimum temperature of the afterburner combustion chamber of the SSIs using three temperature sensors in the afterburner combustion chamber?

A2: No. Based on the information provided, EPA does not approve the AMP because the AMP does not address how the temperature sensors are representative of control of the SSI exhaust emissions as specified in 40 CFR 62.15995(a)(1) or how the sensor locations are representative as specified in 40 CFR 62.15995(a)(3)(ii)(D)(1). Anchorage must resubmit a revised AMP that addresses all requirements in 40 CFR 62.15995(a)(1) through (8).

Q3: Does EPA approve Anchorage's AMP for the facility's ash handling system monitoring procedures?

A3: No. EPA does not approve the AMP because it does not provide sufficient detail to determine whether the ash handling system operating procedures meet the requirements of 40 CFR 62.15955 and 62.15995 or whether the visible emission limit is met on an ongoing basis. Further, the AMP does not clearly indicate whether all components of the ash handling system are included in the operating procedures and whether the Method 22 compliance testing will be performed on the entire ash handling system.

Q4: Does EPA approve Anchorage's AMP for to demonstrate compliance with the mercury (Hg) emission limit without the use of Hg-specific controls?

A4: No. EPA does not approve the AMP. Anchorage's AMP does not propose any Hg-specific OPLs or provide any information on how it controls Hg emissions from the SSI, including the extent to which Anchorage relies on maintaining the Hg concentration in the dry sludge feed below a certain level to comply with the Hg emission limit. Anchorage should submit a revised petition regarding Hg-specific OPLs that adequately addresses 40 CFR 62.15965(b)(2)(i) through (v).

Q5: Does EPA approve Anchorage's AMP to demonstrate compliance with the dioxins/furans emission limit using good combustion practices and a series of wet scrubbers, but without the use of dioxins/furans-specific controls?

A5: No. EPA does not approve the AMP because it does not propose to monitor dioxins/furans-specific OPLs for its SSI to demonstrate compliance with the dioxins/furans emission limit, or to provide any information on the control of dioxins/furans from the SSI, such as the extent to which it relies on maintaining the temperature in the combustion zone above a certain level to comply with the dioxins/furans emission limit. Anchorage should submit a revised petition to propose dioxins/furans OPLs associated with good combustion practices that adequately addresses 40 CFR 62.15965(b)(2)(i) through (v).

Abstract for [M190004]

Q. Does EPA approve an alternative monitoring plan to change the sulfur dioxide (SO2) operating limit to 300 ppm and monitor stack emissions with an SO2 continuous emissions monitoring system (CEMS) that has a range of 0-300 ppm and a span of 0-200 ppm at Holcim (US) Inc.'s Portland cement plant (Portland Plant) in Florence, Colorado subject to NESHAP subpart LLL?

A: Yes. Based on the process information and test data submitted by Portland Plant, EPA conditionally approves an SO2 operating limit of 300 ppm, which is more stringent than the 369 ppm SO2 operating level determined by Portland Plant's 2018 hydrogen chloride (HCl) compliance test, and using an SO2 CEMS with a range of 0-300 ppm and a span of 0-200 ppm. If future HCl performance testing indicates the SO2 operating parameter limit should be less than 300 ppm, Portland Plant must establish a lower SO2 operating parameter limit, and the SO2 operating limit must be set, and later monitored, in the same units (PPMVD or PPMV). Further, should SO2 levels increase above the 30-day rolling average SO2 operating limit by 10 percent or more, then Portland Plant must undertake the actions required by 40 CFR 63.1349(b)(8)(x)(A) and (B) and 40 CFR 63.1350(l)(3)(i) and (ii).

Abstract for [M190005]

Q: Does EPA approve a modification of a previously approved Alternative Monitoring Plan (AMP) for Foley Cellulose LLC (Foley Mill) to revise the location for methanol flow rate and density monitoring for measuring steam stripper treatment of pulping condensates at the Foley Mill in Perry, Florida covered by NESHAP subpart S?

A: Yes. Based upon flow rate and density monitoring data provided by Foley Mill, and supplemental information provided by Foley Mill regarding the size of the methanol storage tank and average amount of methanol burned on a normal production day, EPA approves the AMP modification for revising the location for methanol flow rate and density monitoring. The monitoring location would move from the current monitoring location for methanol flow rate and density where the rectified methanol stream enters the methanol storage tank to the outlet of the methanol storage tank for monitoring density and to the inlet of the methanol burners in the No. 2 and No. 4 recovery furnaces for monitoring flow rate. Because the average residence time for the tank contents is just under 8 days and the averaging period for determining compliance is based on a 15-day rolling average, EPA considers this method adequate for measuring the density and flow of the rectified methanol stream.

Abstract for [M190006]

Q: Does EPA approve an alternative monitoring plan (AMP) request from Packaging Corporation of America (PCA), for periods when the wet scrubber is not engaged due to maintenance activities, to monitor on an hourly basis the natural gas and bark feed rates to the Riley Combination Boiler and the Combustion Engineering Combination Boiler at PCA's facility in Valdosta, Georgia subject to NESHAP subpart DDDDD, in lieu of monitoring wet scrubber flow rate, pressure drop, and pH?

A: Yes. EPA conditionally approves the AMP for periods when only natural gas is fired in the boilers, provided that PCA demonstrates through existing data or emissions testing that the two boilers comply with the applicable particulate matter, mercury,and hydrogen chloride emission standards in NESHAP subpart DDDDD when the wet scrubber is not engaged.

Abstract for [M190007]

Q: Does EPA approve an alternative monitoring plan (AMP) to establish the fan amperage operating limits for the Ducon scrubbers installed on the smelt dissolving tanks subject to NESHAP subpart MM at International Paper's Kraft pulp mill in Prattville, Alabama (Prattville Mill) as the midpoint between the no-load amperage value and the lowest of the 1-hour average fan amperage values determined during compliance testing?

A: Yes. Based on the information provided, EPA conditionally approves the AMP for Prattville Mill. EPA agrees that fluctuations in amperage for a constant speed fan are a function of atmospheric conditions, rather than of scrubber performance; therefore, setting the fan amperage limit at the lowest one-hour average fan amperage value based on compliance testing in accordance with 40 CFR 63.864(j)(5)(i)(A) could cause reporting of deviations that do not represent exceedances of the applicable emission limits. The AMP conditions applicable to each of Prattville Mill's scrubbers are specified in the EPA response letter.

Abstract for [M190008]

Q: Does EPA approve an alternative monitoring plan (AMP) to establish the fan amperage operating limits for the Ducon scrubbers installed on the smelt dissolving tanks subject to NESHAP subpart MM at International Paper's Kraft pulp mill (Savannah Mill) as the midpoint between the no-load amperage value and the lowest of the 1-hour average fan amperage values determined during compliance testing?

A: Yes. Based on the information provided, EPA conditionally approves the AMP for Savannah Mill. EPA agrees that fluctuations in amperage for a constant speed fan are a function of atmospheric conditions, rather than of scrubber performance; therefore, setting the fan amperage limit at the lowest one-hour average fan amperage value based on compliance testing in accordance with 40 CFR 63.864(j)(5)(i)(A) could cause reporting of deviations that do not represent exceedances of the applicable emission limits. The AMP conditions applicable to each of Savannah Mill's scrubbers are addressed in the EPA response letter.

Abstract for [M190009]

Q: Does EPA approve an alternative monitoring plan (AMP) to establish the fan amperage operating limits for the Ducon scrubbers installed on the smelt dissolving tanks subject to NESHAP subpart MM at International Paper's Kraft pulp mill in Selma, Alabama (Riverdale Mill) as the midpoint between the no-load amperage value and the lowest of the 1-hour average fan amperage values determined during compliance testing?

A: Yes. Based on the information provided, EPA conditionally approves the AMP for Riverdale Mill. EPA agrees that fluctuations in amperage for a constant speed fan are a function of atmospheric conditions, rather than of scrubber performance; therefore, setting the fan amperage limit at the lowest one-hour average fan amperage value based on compliance testing in accordance with 40 CFR 63.864(j)(5)(i)(A) could cause reporting of deviations that do not represent exceedances of the applicable emission limits. The AMP conditions applicable to each of Riverdale Mill's scrubbers are specified in the EPA response letter.

Abstract for [M190010]

Q: Does EPA approve an alternative monitoring plan (AMP) to establish the fan amperage operating limits for the Ducon scrubbers installed on the smelt dissolving tanks subject to NESHAP subpart MM at International Paper's Kraft pulp mill in Redwood, Mississippi (Vicksburg Mill) as the midpoint between the no-load amperage value and the lowest of the 1-hour average fan amperage values determined during compliance testing?

A: Yes. Based on the information provided, EPA conditionally approves the AMP for Vicksburg Mill. EPA agrees that fluctuations in amperage for a constant speed fan are a function of atmospheric conditions, rather than of scrubber performance; therefore, setting the fan amperage limit at the lowest one-hour average fan amperage value based on compliance testing in accordance with 40 CFR 63.864(j)(5)(i)(A) could cause reporting of deviations that do not represent exceedances of the applicable emission limits. The AMP conditions applicable to each of Vicksburg Mill's scrubbers are specified in the EPA response letter.

Abstract for [M190011]

Q: Does EPA approve an alternative monitoring plan (AMP) to establish the fan amperage operating limits for the Ducon scrubbers installed on the smelt dissolving tanks subject to NESHAP subpart MM at International Paper's Kraft pulp mill in Eastover, South Carolina (Eastover Mill) as the midpoint between the no-load amperage value and the lowest of the 1-hour average fan amperage values determined during compliance testing, for IP's Eastover Mill?

A: Yes. Based on the information provided, EPA conditionally approves the AMP for Eastover Mill. EPA agrees that fluctuations in amperage for a constant speed fan are a function of atmospheric conditions, rather than of scrubber performance; therefore, setting the fan amperage limit at the lowest one-hour average fan amperage value based on compliance testing in accordance with 40 CFR 63.864(j)(5)(i)(A) could cause reporting of deviations that do not represent exceedances of the applicable emission limits. The AMP conditions applicable to each of Eastover Mill's scrubbers are specified in the EPA response letter.

Abstract for [M190012]

Q: Does EPA approve an alternative monitoring plan (AMP) to establish the fan amperage operating limits for the Ducon scrubbers installed on the smelt dissolving tanks subject to NESHAP subpart MM at International Paper's Kraft pulp mill in Georgetown, South Carolina (Georgetown Mill) as the midpoint between the no-load amperage value and the lowest of the 1-hour average fan amperage values determined during compliance testing?

A: Yes. Based on the information provided, EPA conditionally approves the AMP for Georgetown Mill. EPA agrees that fluctuations in amperage for a constant speed fan are a function of atmospheric conditions, rather than of scrubber performance; therefore, setting the fan amperage limit at the lowest one-hour average fan amperage value based on compliance testing in accordance with 40 CFR 63.864(j)(5)(i)(A) could cause reporting of deviations that do not represent exceedances of the applicable emission limits. The AMP conditions applicable to each of Georgetown Mill's scrubbers are specified in the EPA response letter.

Abstract for [M190013]

Q: Does EPA approve an alternative monitoring plan (AMP) to establish the fan amperage operating limits for the Ducon scrubbers installed on the smelt dissolving tanks subject to NESHAP subpart MM at International Paper's Kraft pulp mill in Franklin, Virginia (Franklin Mill) as the midpoint between the no-load amperage value and the lowest of the 1-hour average fan amperage values determined during compliance testing?

A: Yes. Based on the information provided, EPA conditionally approves the AMP for Franklin Mill. EPA agrees that fluctuations in fan amperage for a constant speed fan are a function of atmospheric conditions, rather than of scrubber performance; therefore, setting the fan amperage limit at the lowest 1-hour average fan amperage value based on compliance testing in accordance with 40 CFR 63.864(j)(5)(i)(A) could cause reporting of deviations that do not represent exceedances of the applicable emission limits. The AMP conditions applicable to each of Franklin Mill's scrubbers are specified in the EPA response letter.

Abstract for [M190014]

Q: Does EPA approve an alternative monitoring plan (AMP) to identify periods of no flow to the regenerative thermal oxidizer and packed-bed scrubber by using process data regarding the end and start of batch production runs in lieu of monitoring flow at the inlet or outlet of this control system installed on UPM Pharmaceuticals, Inc. (UPM's) batch-operated pharmaceuticals manufacturing facility in Bristol, Tennessee subject to NESHAP subpart GGG?

A: Yes. Based on the information provided, EPA approves UPM's AMP for determining periods of no flow of emissions to the control system for the batch operation, for the purpose of removing periods of no flow when calculating daily average values of operating parameter averages for the control system. Because of the ductwork configuration at the facility, both process air and room air are collected and sent to the control system for reducing hazardous air pollutant (HAP) emissions; therefore, the air flow data at the inlet or outlet of the control system is not a reliable indicator of periods when there are no HAP emissions. EPA agrees with UPM's rationale for starting each period of no flow 15 minutes after the end of a batch, and UPM's plan to end each period of no flow when the next batch begins.

Abstract for [M190015]

Q1: Does EPA approve an alternative monitoring plan (AMP) to establish the fan amperage operating limits for the Ducon scrubbers installed on the smelt dissolving tanks subject to NESHAP subpart MM at International Paper's Kraft pulp mill in Columbus, Georgia (Columbus Mill) as the midpoint between the no-load amperage value and the lowest of the 1-hour average fan amperage values determined during compliance testing?

A1: Yes. Based on the information provided, EPA conditionally approves the AMP for Columbus Mill. EPA agrees that fluctuations in fan amperage for a constant speed fan are a function of atmospheric conditions, rather than of scrubber performance; therefore, setting the fan amperage limit at the lowest 1-hour average fan amperage value based on compliance testing in accordance with 40 CFR 63.864(j)(5)(i)(A) could cause reporting of deviations that do not represent exceedances of the applicable emission limits. The AMP conditions applicable to each of Columbus Mill's scrubbers are specified in the EPA response letter.

Q2: Does EPA also approve the AMP at Columbus Mill as an alternative to monitoring the pressure differential of the gas stream through the Ducon scrubbers installed on the smelt dissolving tanks which are also subject to NSPS subpart BB?

A2: Yes. Based on the information provided, EPA approves the AMP in lieu of monitoring differential pressure monitoring required in 40 CFR 60.282(b)(2)(i). Based on the operation of the Ducon scrubbers, fan amps are an appropriate alternative to pressure differential. The other requirements of subpart BB continue to apply.

Abstract for [M190016]

Q1: Does EPA approve an alternative monitoring plan (AMP) to establish the fan amperage operating limits for the Ducon UW-4 scrubbers installed on the smelt dissolving tanks subject to NESHAP subpart MM at International Paper's Kraft pulp mill in Riegelwood, North Carolina (Riegelwood Mill) as the midpoint between the no-load amperage value and the lowest of the 1-hour average fan amperage values determined during compliance testing?

A1: Yes. Based on the information provided, EPA conditionally approves the AMP for Riegelwood Mill. EPA agrees that fluctuations in fan amperage for a constant speed fan are a function of atmospheric conditions, rather than of scrubber performance; therefore, setting the fan amperage limit at the lowest 1-hour average fan amperage value based on compliance testing in accordance with 40 CFR 63.864(j)(5)(i)(A) could cause reporting of deviations that do not represent exceedances of the applicable emission limits. The AMP conditions applicable to each of Riegelwood Mill's scrubbers are specified in the EPA response letter.

Q2: Does EPA also approve the AMP at Riegelwood Mill as an alternative to monitoring the pressure differential of the gas stream through the Ducon scrubbers installed on the smelt dissolving tanks, which are also subject to NSPS subpart BB?

A2: Yes. Based on the information provided, EPA approves the AMP in lieu of monitoring differential pressure monitoring required in 40 CFR 60.282(b)(2)(i). Based on the operation of the Ducon scrubbers, fan amps are an appropriate alternative to pressure differential. The other requirements of subpart BB continue to apply.

Abstract for [M190017]

Q: Does EPA approve an alternative monitoring plan (AMP) to determine compliance with net heating value requirements of a cascading flare system at CITGO Petroleum Corporation's Lake Charles Manufacturing Complex (CITGO LCMC) in Lake Charles, Louisiana subject to NESHAP subpart CC, to monitor the net heating value of the primary flare in lieu of monitoring the net heating value of secondary flare B-107?

A: Yes. Based on the information provided, EPA approves the AMP since monitoring the net heating value (NHV) at the primary flare will be comparable to monitoring the NHV at the secondary flare because the two flares are connected to a single flare gas header system such that discharges will be directed first to the primary flare. In addition, CITGO LCMC has elected to directly monitor the net heating value of the primary flare's vent gas following the methods provided in 40 CFR 63.670(j)(3).

Abstract for [M190018]

Q: Does EPA approve a waiver of the requirement to conduct triennial carbon monoxide (CO) performance tests under NESHAP subpart JJJJJJ due to the permanent cessation of coal use, for 18 boilers at nine facilities owned by Wisconsin Department of Administration (DOA) in Wisconsin subject to NESHAP subpart JJJJJJ?

A: Yes. Based on the information provided, the applicable regulations, and pursuant to 40 CFR 63.7(h), EPA conditionally approves the performance testing waiver for each of the 18 boilers identified in the EPA response letter. For each boiler that no longer fires coal, DOA must continue to monitor the excess oxygen level in the flue gas, and if the 30-day rolling average oxygen level is below the minimum oxygen level determined from the performance tests conducted in 2017, DOA must report the exceedance to EPA. If DOA combusts coal in any of the boilers after April 30, 2020, then DOA must conduct the CO performance test required by subpart JJJJ within 30 days and thereafter as required by subpart JJJJJJ.

Abstract for [M190019]

Q1: Does EPA determine that the final filtering step of a coating product to remove lumps/gels from the final product (epoxy dispersion process), which The Dow Chemical Company (Dow) is planning to start up at its facility in Midland, Michigan, meets the definition of “separation activity” in NESHAP subpart HHHHH, such that NESHAP subpart HHHHH would not apply and the epoxy dispersion process would potentially be subject to NESHAP subpart FFFF?

A1: No. Based on the information provided by Dow regarding the planned epoxy dispersion process, EPA determines that the specific epoxy dispersion process that Dow plans for its Midland, Michigan facility is not considered a “separation activity” under subpart HHHHH, therefore subpart HHHHH would potentially apply to Dow's planned epoxy dispersion process, and NESHAP subpart FFFF would not apply. If Dow uses HAP-containing materials in the process, or uses HAP-containing cleaning solvents, the requirements of Subpart HHHHH would apply to the epoxy dispersion process.

Q2: What is meant by “separation activity” in subpart HHHHH?

A2: EPA is unable to answer Dow's broad question in this response regarding what is meant by “separation activity” in subpart HHHHH.

Abstract for [M190020]

Q1: Does EPA approve test method modifications for EPA Reference Methods 5, 26A, and 29 of 40 CFR part 60, appendix A to use a Teflon® transfer line between the filter and the first impinger of the sampling train during comprehensive performance tests conducted using the three reference methods on Veolia ES Technical Solutions, LLC's (Veolia's) three hazardous waste incinerators (Unit #2, Unit #3, and Unit #4) in Illinois covered under NESHAP subpart EEE?

A1: Yes. EPA conditionally approves Veolia's test method modifications for EPA Reference Methods 5, 26A, and 29, provided that Veolia takes certain precautions to preserve the samples' integrity as specified in the EPA response letter.

Q2: Does EPA continue to approve Veolia's use of the fifteen test method modifications previously approved by EPA on November 16, 2009 and June 15, 2011?

A2: Yes. Because these test methods were previously approved by EPA, the methods may be used at Veolia's hazardous waste incinerators without any further action from EPA.

Abstract for [M190021]

Q: Does EPA approve an alternative monitoring plan (AMP) for monitoring intermittent lime addition to Baghouse #1 installed on two Group 1 reverberatory aluminum melting furnaces (RMF #1 and RMF #2) in lieu of using a pulse jet fabric filter with continuous lime injection at Huntington Aluminum Incorporated's (HAI's) facility in Huntington, Indiana covered under NESHAP subpart RRR?

A: No. Based on the information provided, EPA denies HAI's request for an AMP for intermittent lime injection because HAI did not provide assurances, through data and information, that the proposed intermittent lime addition monitoring procedure is adequate to ensure that all relevant emissions standards will be met on a continuous basis. Additionally, the emissions testing data that is available to the Agency is insufficient to support the proposed alternative.

Abstract for [M200001]

Q: Does EPA approve the alternative monitoring plan (AMP) request from Nucor Steel Gallatin (Nucor) for the wet scrubber that controls hydrochloric acid emissions from a steel pickling line at the Nucor's facility in Ghent, Kentucky subject to NESHAP subpart CCC, because water is not provided at a continuous rate to this “water-efficient” scrubber?

A: Yes. EPA conditionally approves Nucor's AMP for the scrubber because conductivity is determined to be an acceptable indicator for acid strength in a wet scrubber. Because temperature fluctuations can interfere with accurate conductivity measurement, Nucor must coordinate with the Kentucky Department of Air Quality to ensure that the accuracy of conductivity measurements can be assured if there are any temperature variations and, if needed, additional assurance requirements to account for temperature fluctuations be included in Nucor's permit.

Abstract for [M200002]

Q1: Does EPA approve an alternative monitoring plan (AMP) for International Paper (IP) to conduct monitoring of opacity using a continuous opacity monitoring system (COMS) at a point in between the electrostatic precipitator (ESP) and wet scrubber in lieu of continuous parameter monitoring of the differential pressure, liquid flow rate, and scrubbing liquid supply pressure, for the wet scrubber installed to control particulate matter (PM) emissions for Lime Kiln No. 4 at IP's Riegelwood Mill in Riegelwood, North Carolina that is subject to NESHAP subpart MM and NSPS subpart BB, because the wet scrubber is not used to control emissions of PM?

A1: Yes. Based on the description of the process, the vent gas streams, the design of the vent gas controls, and the proposed opacity monitoring furnished by IP, EPA conditionally approves the AMP. Since the wet scrubber is not serving as a PM control device and compliance is demonstrated before the wet scrubber, it is not necessary to monitor the PM operating parameters for the wet scrubber per NESHAP subpart MM and NSPS subpart BB. IP must maintain proper operation of the ESP automatic voltage controller per the requirements of NESHAP subpart MM, perform compliance testing after the ESP and prior to the wet scrubber, and continue to conduct PM testing per the requirements of NESHAP subpart MM and NSPS subpart BB.

Q2: Does EPA also approve under this AMP an alternative to the excess emissions criteria of NSPS Subpart BB, whereby excess emissions occur when the 6-minute average opacity measured by this COMS is greater than 20 percent and that a violation occurs when opacity exceeds 20 percent for one percent or more of the operating time in a semi-annual period?

A2: Yes. Based on the excess emissions criteria furnished by IP, the EPA agrees that these are the conditions where excess emissions will occur.

Abstract for [M200003]

Q: Does EPA approve use of an alternative monitoring plan (AMP) for New-Indy Catawba, LLC (New-Indy) to reduce the frequency of conducting leak detection and repair monitoring of any closed vent system, fixed roof cover, or enclosure that is characterized as unsafe or difficult to monitor at New-Indy's paper mill in Catawba, South Carolina that is subject to NESHAP subpart S?

A: Yes. EPA conditionally approves use of an AMP if the owner or operator determines that personnel performing the inspections and monitoring would be exposed to an imminent or potential danger, or if the equipment could not be inspected without elevating the inspection or monitoring personnel more than two meters above a support surface. In lieu of the current 30-day visual inspections of closed vent system components and pulping condensate closed-collection system and annual inspections to verify there are no detectable emissions from closed vent system components and condensate storage tanks, the AMP requires monitoring or inspections to be conducted at least once every five years, or more frequently if possible. New-Indy must submit a site-specific monitoring and inspection plan that identifies the equipment that are classified as unsafe or difficult to monitor and are therefore subject to the AMP, which we understand includes 0.4 percent of the leak detection and repair (LDAR) inspection points subject to Subpart S, including an explanation of why the component is unsafe to monitor or inspect and a description of how the equipment will be monitored or inspected during safe-to-monitor or safe-to-inspect periods, as described in 40 CFR 63.148(i)(1) and (2).

Abstract for [M200004]

Q: Does EPA determine that operation of boilers SR4 and SR6 at the GSP Schiller LLC Station in Portsmouth, New Hampshire (GSP) to produce auxiliary steam (i.e., not producing electricity) qualifies as a startup operation under NESHAP subpart UUUUU?

A: No. EPA determines that units SR4 and SR6 are not operating under startup conditions while burning residual fuel oil to produce auxiliary steam. For units SR4 and SR6, “startup” (as defined in subpart UUUUU) ends when steam is generated for any purpose, such as burning residual fuel oil to heat on-site residual fuel oil tanks or burning bituminous coal to generate electricity for sale.

Abstract for [M200005]

Q: Does EPA determine that the lithium ion battery manufacturing process at LG Chem Michigan (Holland) in Holland, Michigan is subject to NESHAP subpart VVVVVV?

A: No. Based on the information that was provided, EPA determines that the lithium ion battery manufacturing process is an area source subject to NESHAP subpart CCCCCCC. In accordance with 40 CFR 63.11607, Holland's description of their cathode mixing line meets the definition of “paint and allied product manufacturing,” the cathode slurry mixture produced by Holland meets the definition of “paints and allied products,” and the nickel used in the process meets the definition of “material containing hazardous air pollutant (HAP).”

Abstract for [M200006]

Q: Does EPA approve an Alternative Monitoring Plan (AMP) for mercury (Hg) and chlorine (Cl) compliance testing to supplement the fuel types that result in worst-case Hg and Cl emissions (i.e., wood and tire-derived fuel (TDF)) with No. 6 fuel oil in order to reach maximum operating load during the performance test, but remove the heat input of the No. 6 fuel oil when calculating the maximum Hg and Cl concentrations on a lb/MMBtu basis as required in 40 CFR 63.7530(b)(1), for the No. 2 Combination Boiler at New-Indy Catawba, LLC (New-Indy's) paper mill in Catawba, South Carolina that is subject to NESHAP subpart DDDDD?

A: Yes. Based on New-Indy's description of the process, equations for demonstrating compliance, and plans to maintain records of fuel usage following the performance test according to 40 CFR 63.7540(a)(2), EPA approves the AMP for New-Indy's No. 2 Combination Boiler only. The proposed calculations will conservatively represent the highest input amounts of Cl and Hg during the compliance testing while firing bark, TDF. and No. 6 fuel oil because they account for the emissions resulting from the combustion of No. 6 fuel oil without providing credit for the heat input associated with No. 6 fuel oil.

Abstract for [M200007]

Q: Does EPA determine that a thermal chip dryer operated at 660 degrees Fahrenheit in order to remove water from aluminum shreds containing paint is not an affected source under NESHAP subpart RRR at Matalco (US), Inc.'s (Matalco's) secondary aluminum production facility in Lordstown, Ohio?

A: No. Based on the information provided, EPA determines that the thermal chip dryer operated in the proposed manner would be an affected source under NESHAP subpart RRR, consistent with the operations of a “scrap dryer/delacquering kiln/decoating kiln” as defined under subpart RRR and according to the record of subpart RRR. Further, Matalco does not sufficiently address the temperature level that would assure no emissions of hazardous air pollutants (HAPs), to support their belief that no hydrocarbon or dioxins/furans emissions would be produced while operating the dryer at 660 degrees Fahrenheit. During periods when the thermal chip dryer is processing aluminum shreds containing paint at or near 660 °F, the dryer must comply with the major source requirements in subpart RRR for a scrap dryer/delacquering kiln/decoating kiln.

Abstract for [M200008]

Q: Does EPA approve an alternative plan (AMP) to establish the fan amperage operating limits for the Ducon scrubbers installed on the smelt dissolving tanks subject to NESHAP subpart MM at International Paper Company's Kraft pulp mill in Bogalusa, Louisiana (Bogalusa Mill) as the midpoint between the no-load amperage value and the lowest of the 1-hour average fan amperage values determined during compliance testing?

A: Yes. Based on the information provided, EPA conditionally approves the AMP for Bogalusa Mill. EPA agrees that fluctuations in fan amperage for a constant speed fan are a function of atmospheric conditions, rather than of scrubber performance; therefore, setting the fan amperage limit at the lowest 1-hour average fan amperage value based on compliance testing in accordance with 40 CFR 63.864(j)(5)(i)(A) could cause reporting of deviations that do not represent exceedances of the applicable emission limits. The AMP conditions applicable to each of Bogalusa Mill's scrubbers are specified in the EPA response letter.

Abstract for [M200009]

Q: Does EPA approve an alternative monitoring plan (AMP) to establish the fan amperage operating limits for the Ducon scrubbers installed on the smelt dissolving tanks subject to NESHAP subpart MM at International Paper Company's Kraft pulp mill in Mansfield, Louisiana (Mansfield Mill) as the midpoint between the no-load amperage value and the lowest of the 1-hour average fan amperage values determined during compliance testing?

A: Yes. Based on the information provided, EPA conditionally approves the AMP for Mansfield Mill. EPA agrees that fluctuations in fan amperage for a constant speed fan are a function of atmospheric conditions, rather than of scrubber performance; therefore, setting the fan amperage limit at the lowest 1-hour average fan amperage value based on compliance testing in accordance with 40 CFR 63.864(j)(5)(i)(A) could cause reporting of deviations that do not represent exceedances of the applicable emission limits. The AMP conditions applicable to each of Mansfield Mill's scrubbers are specified in the EPA response letter.

Abstract for [M200015]

Q: Does EPA agree with the American Petroleum Institute (API) that the Petroleum Refinery MACT Subpart CC, paragraphs 63.670 (d) and (e) mean that the NHVcz requirements only apply starting with the block that contains the 15th minute of a flare event and do not apply to the previous 15-minute block during which the event started which would not include more than a fraction of flow in that period?

A: Yes. The MACT CC regulation, paragraphs 63.670 (d) and (e) both state that the source must comply with applicable limits of combustion zone heat content and velocity when regulated materials are routed to the flare for at least 15 minutes. Therefore, the limits apply starting with the 15-minute block that includes a full 15 minutes of the flaring event. EPA recognizes that compliance with limits during the first 15-minute block of a flaring event could be problematic, at least for meeting the NHVcz minimum because if the release is of low BTU gas, a source might not have time to adjust supplement natural gas and/or adjust steam or air to correct the NHVcz, especially if the event starts late in the 15-minute block.

Abstract for [Z190001]

Q: Does EPA approve an alternative monitoring plan (AMP) to conduct performance testing at the highest achievable engine load and demonstrate continuous compliance via pressure differential (i.e. pressure drop) measurements across the catalyst at plus or minus 10 percent of the highest achievable engine load established during the performance test, for twenty-four of Red Cedar Gathering Company's (Red Cedar's) stationary reciprocating internal combustion engines installed at five compressor stations (i.e., Midway, Ponderosa, Spring Creek, Sambrito, and Trail Canyon) located on the Southern Ute Indian Reservation in Colorado subject to NESHAP subpart ZZZZ?

A: Yes. Based on information provided by Red Cedar regarding declining field conditions that necessitate engine operation at lower loads, EPA conditionally approves the AMP for the twenty-four engines identified in Table 1 of the EPA response letter. For each of the twenty-four engines, Red Cedar must maintain records on a daily basis of the engine load, and if an engine load increases or decreases by 10 percent from the highest achievable engine load during the performance test, Red Cedar must re-test and re-establish the baseline pressure drop across the catalyst.

Abstract for [Z200002]

Q: Does EPA approve an alternative monitoring plan (AMP) to establish the fan amperage operating limits for the Ducon UW-4 scrubbers installed on the smelt dissolving tanks subject to NESHAP subpart MM at Georgia-Pacific's Kraft pulp mill in Cedar Springs, Georgia (Cedar Springs Mill) as the midpoint between the no-load amperage value and the lowest of the 1-hour average fan amperage values determined during compliance testing?

A: Yes. Based on the information provided, EPA conditionally approves the AMP for Cedar Springs Mill. EPA agrees that fluctuations in amperage for a constant speed fan are a function of atmospheric conditions, rather than of scrubber performance; therefore, setting the fan amperage limit at the lowest 1-hour average fan amperage value based on compliance testing in accordance with 40 CFR 63.864(j)(5)(i)(A) could cause reporting of deviations that do not represent exceedances of the applicable emission limits. The AMP conditions for each of Cedar Springs Mill's scrubbers are specified in the EPA response letter.

Abstract for [Z200003]

Q: Does EPA approve an alternative monitoring plan (AMP) during periods of annual regenerative thermal oxidizer (RTO) shut down for maintenance and production curtailment for Group 2 asphalt storage tanks at CertainTeed's asphalt roofing manufacturing facility in Shakopee, Minnesota subject to NESHAP subpart LLLLL, to use a digital camera opacity technique (DCOT) or conduct EPA Method 9 and 22 testing on mist eliminators in lieu of parametric monitoring of mist eliminators or regenerative thermal oxidizers (RTOs)?

A: Yes. Based on the information provided, EPA conditionally approves an AMP for Group 2 asphalt storage tanks 1 through 6 and 11 (hereafter referred to as “AMP tanks”) for periods up to 1,000 hours of RTO shutdown due to maintenance outage or production curtailment (where only AMP tanks are in operation) if no parametric monitoring is conducted on the mist eliminator; otherwise, CertainTeed must use a mist eliminator in series with an RTO and monitor RTO operating parameters to comply with the particulate matter standards in subpart LLLLL for the AMP tanks. Specifically, for RTO shutdown periods up to 750 hours, CertainTeed must use EPA Method 9 and/or EPA Method 22; and for RTO shutdown periods between 751 and 1,000 hours, CertainTeed must use the DCOT method outlined in Section 9.2 of the ASTM D7520-2016. Alternatively, CertainTeed may use the DCOT method for an entire shutdown period up to 1,000 hours. If DCOT is used, CertainTeed must monitor once a shift or twice daily for a continuous 6-minute period and retain records for 5 years of the date, start time, end time, operator's name, and results for the readings and pictures. Otherwise, CertainTeed must conduct a six-minute Method 9 reading on the first day of shutdown and for each subsequent day a six-minute Method 9 or 22 reading once a shift or twice during daylight hours, and retain the original copies of the Method 9 and/or Method 22 sheets for 5 years. Any readings indicating emissions above the zero-opacity standard must be reported as deviations. The number of hours of RTO shutdown time must be tracked on a 12-month rolling sum. Further, during RTO shutdown periods, there may be no loading or unloading of AMP tanks, and the temperature of AMP tanks may not exceed 450 degrees Fahrenheit.

Abstract for [Z200004]

Q: Does EPA determine that frit production processes owned by Prince Minerals, LLC (Prince) in Leesburg, Alabama meet the applicability criteria of NESHAP subparts BBBBBBB, CCCCCCC, and/or VVVVVV?

A: Based on the information provided, EPA determines that Prince's frit production processes meet the applicability criteria of subpart CCCCCCC and do not meet the applicability criteria for subparts BBBBBBB and VVVVVV. Subpart CCCCCCC is applicable to Prince's facility because the subpart lists NAICS code 3255 and defines “paints and allied products manufacturing” as the production of paints and allied products (e.g., coatings) intended to “leave a dried film of solid material on a substrate,” and the subpart defines “material containing HAP” as including any material containing nickel in amounts greater than 0.1 percent by weight. Subpart BBBBBBB defines “chemical preparation” as being manufactured in a process described by the NAICS code 325998, so subpart BBBBBBB is not applicable. Subpart VVVVVV includes an applicability exclusion for sources subject to Subpart CCCCCCC, so subpart VVVVVV is not applicable.

Abstract for [Z200005]

Q: Does EPA approve an alternative monitoring plan (AMP) for six reciprocating internal combustion engines (RICEs) operating at less than 100 percent maximum load during compliance testing at Kinder Morgan Natural Gas Pipeline's Houston Central Gas Plant in Sheridan, Texas subject to NESHAP subpart ZZZZ?

A: Yes. Based on the information provided, EPA conditionally approves an AMP to conduct performance testing for engines COMP-1, COMP-35, and COMP-13C at a maximum engine load of 85 percent with subsequent monitoring required at 85 percent plus or minus 10 percent load, and for engines COMP-349, COMP-350, and COMP-8 at a maximum engine load of 90 percent with subsequent monitoring required at 90 percent plus or minus 10 percent load. EPA agrees that these six RICEs cannot operate at 100 percent plus or minus 10 percent operational load during compliance testing as specified in 40 CFR 63.6620(b)(2) due to site-specific operations. If operations change such that the maximum load of the engines exceeds these alternative lower maximum loads, the AMP will become null and void and retesting at the higher engine load will be required to demonstrate compliance with subpart ZZZZ.

John Dombrowski,
Deputy Director, Office of Compliance, Office of Enforcement and Compliance Assurance.

[FR Doc. 2021-03489 Filed 2-19-21; 8:45 am]

BILLING CODE 6560-50-P